DEPARTMENT OF THE TREASURY

Office of Foreign Assets Control

Sanctions Actions Pursuant to Executive Orders 13660, 13661, 13662, and 13685

AGENCY: Office of Foreign Assets Control, Treasury.

ACTION: Notice.

SUMMARY: The Treasury Department's Office of Foreign Assets Control (OFAC) is publishing the names of sixty-one persons whose property and interests in property are blocked pursuant to one or more of the following authorities: Executive Order (E.O.) 13660, E.O. 13661, and E.O. 13685, or who are subject to the prohibitions of one or more directives under E.O. 13662.

DATES: OFAC's actions described in this notice were effective on July 30, 2015, as further specified below.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). A complete listing of persons determined to be subject to one or more directives under E.O. 13662, as discussed in detail in this Notice, can be found in the Sectoral Sanctions Identifications List at http://www.treasury.gov/resource-center/sanctions/SDN-List/Pages/ssi_list.aspx. Certain general information pertaining to OFAC's sanctions programs is also available via facsimile through a 24-hour fax-on-demand service, tel.: 202/622-0077.

Notice of OFAC Actions

On July 30, 2015, OFAC blocked the property and interests in property of the following five persons pursuant to E.O. 13660, “Blocking Property of Certain Persons Contributing to the Situation in Ukraine”:

Individuals

1. YANUKOVYCH, Oleksandr Viktorovych (a.k.a. YANUKOVICH, Alexander; a.k.a. YANUKOVICH, Oleksander; a.k.a. YANUKOVYCH, Aleksandr Viktorovych; a.k.a. YANUKOVYCH, Olexander); DOB 01 Jul 1973; POB Donetsk, Ukraine (individual) [UKRAINE-EO13660].

2. STAVYTSKY, Eduard Anatoliyovych (a.k.a. STAVYTSKYI, Eduard; a.k.a. STAVYTSKYY, Eduard); DOB 04 Oct 1972; POB Lebedyn, Ukraine; citizen Ukraine; alt. citizen Israel (individual) [UKRAINE-EO13660].

3. KLYUYEV, Andriy Petrovych (a.k.a. KLIUIEV, Andrii Petrovych; a.k.a. KLUEV, Andriy; a.k.a. KLYUEV, Andriy; a.k.a. KLYUYEV, Andrey); DOB 12 Aug 1964; POB Donetsk, Ukraine (individual) [UKRAINE-EO13660].

4. KURCHENKO, Sergey Vitalievich (a.k.a. KURCHENKO, Sergei; a.k.a. KURCHENKO, Sergii; a.k.a. KURCHENKO, Serhiy; a.k.a. KURCHENKO, Serhiy Vitaliyovych); DOB 21 Sep 1985 (individual) [UKRAINE-EO13660].

Entities

1. PRIVATE JOINT-STOCK COMPANY MAKO HOLDING (a.k.a. MAKO HOLDING), Bohdan Khmelnytsky Avenue, Building 102, Voroshilovsky District, Donetsk, Donetsk Oblast 83015, Ukraine; Web site http://mako.ua/; Email Address a.kyzura@mako-holding.com; Government Gazette Number 34436105 (Ukraine) [UKRAINE-EO13660] (Linked To: YANUKOVYCH, Oleksandr Viktorovych).

On July 30, 2015, OFAC blocked the property and interests in property of the following fifteen persons pursuant to E.O. 13661, “Blocking Property of Additional Persons Contributing to the Situation in Ukraine”:

Individuals

1. BULYUTIN, Andrey, London, United Kingdom; DOB 19 Oct 1979; POB Izhevsk, Russia; citizen Russia; Passport 515356705 (Russia); Business Development Manager at Kalashnikov Concern (individual) [UKRAINE-EO13661].

2. OMELCHENKO, Aleksander (a.k.a. OMELCHENKO, Aleksandr Anatolyevich; a.k.a. OMELCHENKO, Alexander A.; a.k.a. OMELCHENKO, Alexander Anatolyevich; a.k.a. OMELCHENKO, Alexandr Anatolyevich); DOB 08 Sep 1983; POB Moscow, Russia; citizen Russia; Passport 721937258 (Russia); National ID No. 4598338396 (Russia); alt. National ID No. 4506978162 (Russia); Chief Export Officer for Kalashnikov Concern (individual) [UKRAINE-EO13661].

3. SEMENOVA, Olena Yurevna (a.k.a. SEMENOVA, Elena Iurevna); DOB 06 Dec 1978; citizen Ukraine; Passport ER747251 (Ukraine); National ID No. 2882908207 (Ukraine) (individual) [UKRAINE-EO13661].

4. PAANANEN, Kai (a.k.a. PAANANEN, Kai Lauri Johannes); DOB 21 Jul 1954; Chairman, SET Petrochemicals Oy; Managing Director, Southeast Trading Oy (individual) [UKRAINE-EO13661].

5. USACHEV, Oleg (a.k.a. USACHEV, Oleg Leonidovich); DOB 03 Jul 1970 (individual) [UKRAINE-EO13661].

6. ROTENBERG, Roman, Beregovaya, Street 6, Apartment 25, Moscow 125367, Russia; DOB 07 Apr 1981; citizen Russia; alt. citizen Finland; Passport 640848350 (Russia); alt. Passport 16038132 (Finland); alt. Passport 17017258 (Finland) (individual) [UKRAINE-EO13661].

7. KOLBIN, Petr (a.k.a. KOLBIN, Peter; a.k.a. KOLBIN, Petr Viktorovich; a.k.a. KOLBIN, Pyotr); DOB 02 Jan 1952; POB Russia (individual) [UKRAINE-EO13661].

Entities

1. IZHEVSKY MEKHANICHESKY ZAVOD JSC (a.k.a. BAIKAL), 8 Promyshlennaya Str., Izhevsk 426063, Russia; Web site http://www.baikalinc.ru [UKRAINE-EO13661].

2. OPEN JOINT STOCK COMPANY “KONTSERN IZHMASH” (a.k.a. OJSC KONTSERN IZHMASH), 3 Deryabin Proezd, Izhevsk, Udmurt Republic 426006, Russia; Public Registration Number 1021801434380 [UKRAINE-EO13661].

3. AIRFIX AVIATION OY, Tullimiehentie 4-6, Vantaa 01530, Finland; Chemin des Papillons 4, Geneva/Cointrin 1216, Switzerland [UKRAINE-EO13661].

4. SET PETROCHEMICALS OY, Ukonvaaja 2 A, Espoo 02130, Finland [UKRAINE-EO13661].

5. SOUTHEAST TRADING OY (a.k.a. SOUTHEAST TRADING LTD), Bucharest, Romania; St. Petersburg, Russia; Espoo, Finland; Kannelkatu 8, Lappeenranta 53100, Finland; PL 148, Lappeenranta 53101, Finland [UKRAINE-EO13661].

6. OY LANGVIK CAPITAL LTD, Tanskarlantie 9, Jorvas 02420, Finland; National ID No. 19607726 [UKRAINE-EO13661].

7. IPP OIL PRODUCTS (CYPRUS) LIMITED, 12 Esperidon Street, 4th Floor, Nicosia 1087, Cyprus; Public Registration Number C210706 [UKRAINE-EO13661].

8. SOUTHPORT MANAGEMENT SERVICES LIMITED, De Castro Street 24, Akara Building, Wickhams Cay 1, Road Town, Tortola, Virgin Islands, British; Nicosia, Cyprus [UKRAINE-EO13661].

The basis for designation for the fifteen persons designated pursuant to E.O. 13661 is as follows:

1. AIRFIX AVIATION OY was designated pursuant to E.O. 13661 because it is owned or controlled by, or has acted or purported to act for or on behalf of, directly or indirectly, GENNADY TIMCHENKO.

2. KAI PAANANEN was designated pursuant to E.O. 13661 because he has materially assisted, sponsored, or provided financial, material, or technological support for, or goods or services to or in support of, and has acted or purported to act for or on behalf of, directly or indirectly, AIRFIX AVIATION OY.

3. SOUTHEAST TRADING OY was designated pursuant to E.O. 13661 because it is owned or controlled by, or has acted or purported to act for or on behalf of, directly or indirectly, KAI PAANANEN.

4. SET PETROCHEMICALS OY was designated pursuant to E.O. 13661 because it is owned or controlled by, or has acted or purported to act for or on behalf of, KAI PAANANEN and SOUTHEAST TRADING OY.

5. OLEG USACHEV was designated pursuant to E.O. 13661 because he has materially assisted, sponsored, or provided financial, material, or technological support for, or goods or services to or in support of, and has acted or purported to act for or on behalf of, directly or indirectly, SET PETROCHEMICALS OY.

6. PETR KOLBIN was designated pursuant to E.O. 13661 because he has acted or purported to act for or on behalf of, directly or indirectly, and has materially assisted, sponsored, or provided financial, material, or technological support for, or goods or services to or in support of, GENNADY TIMCHENKO.

7. SOUTHPORT MANAGEMENT SERVICES LIMITED was designated pursuant to E.O. 13661 because it is owned or controlled by, or has acted or purported to act for or on behalf of, directly or indirectly, PETR KOLBIN.

8. IPP OIL PRODUCTS (CYPRUS) LIMITED was designated pursuant to E.O. 13661 because it is owned or controlled by, or has acted or purported to act for or on behalf of, directly or indirectly, PETR KOLBIN and SOUTHPORT MANAGEMENT SERVICES LIMITED.

9. IZHEVSKY MEKHANICHESKY ZAVOD JSC was designated pursuant to E.O. 13661 because it operates in the arms or related materiel sector in the Russian Federation.

10. OPEN JOINT STOCK COMPANY “KONTSERN IZHMASH” was designated pursuant to E.O. 13661 because it operates in the arms or related materiel sector in the Russian Federation.

11. ROMAN ROTENBERG was designated pursuant to E.O. 13661 because he has acted or purported to act for or on behalf of BORIS ROTENBERG.

12. OY LANGVIK CAPTIAL LTD. was designated pursuant to E.O. 13661 because it is owned or controlled by ROMAN ROTENBERG.

13. OLENA YUREVNA SEMENOVA was designated pursuant to E.O. 13661 because she has materially assisted, sponsored, or provided financial, material, or technological support for, or goods or services to or in support of, KALASHNIKOV CONCERN.

14. ALEKSANDER OMELCHENKO was designated pursuant to E.O. 13661 because he has materially assisted, sponsored, or provided financial, material, or technological support for, or goods or services to or in support of, KALASHNIKOV CONCERN.

15. ANDREY BULYUTIN was designated pursuant to E.O. 13661 because he has materially assisted, sponsored, or provided financial, material, or technological support for, or goods or services to or in support of, KALASHNIKOV CONCERN.

On July 30, 2015, OFAC blocked the property and interests in property of the following six persons pursuant to E.O. 13685, “Blocking Property of Certain Persons and Prohibiting Certain Transactions With Respect to the Crimea Region of Ukraine”:

Entities

1. STATE ENTERPRISE KERCH SEA COMMERCIAL PORT (a.k.a. KERCH COMMERCIAL SEAPORT; a.k.a. KERCH MERCHANT SEA PORT; a.k.a. KERCH SEA PORT; a.k.a. PORT OF KERCH; a.k.a. SEAPORT OF KERCH; a.k.a. STATE ENTERPRISE KERCH COMMERCIAL SEA PORT), Kirova Street 28, Kerch, Crimea 98312, Ukraine; 28 Kirova Str., Kerch, Crimea 98312, Ukraine; 28, Kirov Str., Kerch, Crimea 98312, Ukraine; Ul. Kirov, 28, Kerch, Crimea 98312, Ukraine; ul Kirova 28, Kerch 98312, Ukraine; Web site http://www.kerchport.com; alt. Web site http://www.ukrport.org.ua; Email Address kmtp@kerch.sf.ukrtel.net; alt. Email Address referent.port@mail.ru; alt. Email Address kmtp@trport.kerch.crimea.com; UN/LOCODE UA KEH; Registration ID 01125554 [UKRAINE-EO13685].

2. STATE ENTERPRISE FEODOSIA SEA TRADING PORT (a.k.a. PORT OF FEODOSIA; a.k.a. SEAPORT OF FEODOSIYA; a.k.a. THEODOSIA COMMERCIAL SEAPORT; a.k.a. THEODOSIA MERCHANT SEA PORT; a.k.a. THEODOSIA SEA PORT), 14 Gorky Street, Theodosia 98100, Ukraine; 14, Gorky Str., Feodosiya, Crimea 98100, Ukraine; Gorky Street 11, Feodosia, Crimea 98100, Ukraine; Web site www.ukrport.org.ua; Email Address theodosia@port.kafa.crimea.ua; UN/LOCODE UA FEO; Registration ID 01125577 (Russia) [UKRAINE-EO13685].

3. STATE ENTERPRISE YALTA SEA TRADING PORT (a.k.a. PORT OF YALTA; a.k.a. SEAPORT OF YALTA; a.k.a. YALTA COMMERCIAL SEAPORT; a.k.a. YALTA MERCHANT SEA PORT; a.k.a. YALTA SEA PORT), Roosevelt Street 3, Yalta, Crimea 98600, Ukraine; 5, Roosevelt Str., Yalta, Crimea 98600, Ukraine; 5 Roosevelt Street, Yalta, Crimea 98600, Ukraine; Web site yaltaport.com.ua; Email Address yasko@ukrpost.ua; alt. Email Address yasco@mail.ylt.crimea.com; UN/LOCODE UA YAL; Registration ID 01125591 (Ukraine) [UKRAINE-EO13685].

4. STATE SHIPPING COMPANY KERCH SEA FERRY (a.k.a. STATE FERRY ENTERPRISE KERCH FERRY), Tselimbernaya Street 16, Kerch, Crimea 98307, Ukraine; 16 Tselibernaya Street, Kerch, Crimea 98307, Ukraine; Registration ID 14333981 (Ukraine) [UKRAINE-EO13685].

5. STATE ENTERPRISE SEVASTOPOL SEA TRADING PORT (a.k.a. PORT OF SEVASTOPOL; a.k.a. SEAPORT OF SEVASTOPOL; a.k.a. SEVASTOPOL COMMERCIAL SEAPORT; a.k.a. SEVASTOPOL MERCHANT SEA PORT; a.k.a. SEVASTOPOL SEA PORT; a.k.a. SEVASTOPOL SEA TRADE PORT; a.k.a. STATE ENTERPRISE SEVASTOPOL COMMERCIAL SEAPORT), 3 Place Nakhimova, Sevastopol 99011, Ukraine; 5, Nakhimova square, Sevastopol, Crimea 99011, Ukraine; Nahimova Square 5, Sevastopol, Crimea 99011, Ukraine; Email Address Sevport@stel.sebastopol.ua; alt. Email Address sevampu@ukr.net; alt. Email Address mail@morport.sebastopol.ua; UN/LOCODE UA SVP; Registration ID 01125548 (Ukraine) [UKRAINE-EO13685].

6. STATE ENTERPRISE EVPATORIA SEA COMMERCIAL PORT (a.k.a. PORT OF EVPATORIA; a.k.a. PORT OF YEVPATORIA; a.k.a. SEAPORT OF YEVPATORIYA; a.k.a. YEVPATORIA COMMERCIAL SEAPORT; a.k.a. YEVPATORIA MERCHANT SEA PORT; a.k.a. YEVPATORIA SEA PORT; a.k.a. YEVPATORIYA COMMERCIAL SEA PORT; a.k.a. YEVPATORIYA SEA PORT), Mariners Square 1, Evpatoria, Crimea 97416, Ukraine; 1, Moryakov Sq, Yevpatoriya, Crimea 97408, Ukraine; 1 Moryakov Sq., Yevpatoria, Crimea 97416, Ukraine; Ukraine; 1 Moryakov Sq, Yevpatoriya, Crimea 97416, Ukraine; alt. Email Address lada1@seavenue.net; alt. Email Address zamves@emtp.com.ua; UN/LOCODE UA ZKA; Registration ID 01125583 (Ukraine) [UKRAINE-EO13685].

On July 30, 2015, OFAC identified as subject to the prohibitions of Directive 1 (as amended) of September 12, 2014, the following eighteen persons, pursuant to E.O. 13662, “Blocking Property of Additional Persons Contributing to the Situation in Ukraine” and 31 CFR 589.406, 589.802, and following the Secretary of the Treasury's determination pursuant to section l(a)(i) of E.O. 13662 with respect to the financial services sector of the Russian Federation economy:

Entities

1. BANK BELVEB OJSC (a.k.a. BELVESHECONOMBANK OAO; a.k.a. BELVNESHECONOMBANK OPEN JOINT STOCK COMPANY), 29 Pobeditelei ave., Minsk 220004, Belarus; SWIFT/BIC BELB BY 2X; Web site bveb.by; Executive Order 13662 Directive Determination—Subject to Directive 1; All offices worldwide; for more information on directives, please visit the following link: http://www.treasury.gov/resource-center/sanctions/Programs/Pages/ukraine.aspx#directives. [UKRAINE-EO13662] (Linked To: VNESHECONOMBANK).

2. DEVELOPMENT CORPORATION OF NORTH CAUCASUS OJSC (f.k.a. KRSK, OAO; a.k.a. OJSC NORTH CAUCASUS DEVELOPMENT CORPORATION; a.k.a. OPEN JOINT-STOCK COMPANY NORTH CAUCASUS DEVELOPMENT CORPORATION; a.k.a. OTKRYTOE AKTSIONERNOE OBSHCHESTVO KORPORATSIYA RAZVITIYA SEVERNOGO KAVKAZA), d. 139 ul. Pyatigorskaya Essentuki, Stavropolski krai 357625, Russia; Web site krskfo.ru; Executive Order 13662 Directive Determination—Subject to Directive 1; Public Registration Number 1102632003253; For more information on directives, please visit the following link: http://www.treasury.gov/resource-center/sanctions/Programs/Pages/ukraine.aspx#directives. [UKRAINE-EO13662] (Linked To: VNESHECONOMBANK).

3. EXIAR (a.k.a. EKSAR OAO; a.k.a. EXIAR OJSC; a.k.a. ROSSISKOE AGENTSTVO PO STRAKHOVANIYU EKSPORTNYKH KREDITOV I INVESTITSI OTKRYTOE AKTSIONERNOE OBSHCHESTVO; a.k.a. RUSSIAN AGENCY FOR EXPORT CREDIT AND INVESTMENT INSURANCE OJSC), str. 1 3 1-i Zachatievski per, Moscow, 119034, Russia; Web site exiar.ru; Executive Order 13662 Directive Determination—Subject to Directive 1; Public Registration Number 1117746811566; For more information on directives, please visit the following link: http://www.treasury.gov/resource-center/sanctions/Programs/Pages/ukraine.aspx#directives. [UKRAINE-EO13662] (Linked To: VNESHECONOMBANK).

4. EXIMBANK OF RUSSIA (a.k.a. GOSUDARSTVENNY SPETSIALIZIROVANNY ROSSISKI EKSPORTNO-IMPORTNY BANK (ZAKRYTOE AKTSIONERNOE OBSHCHESTVO); a.k.a. ROSEKSIMBANK, ZAO; a.k.a. RUSSIAN EXPORT-IMPORT BANK; a.k.a. STATE SPECIALIZED RUSSIAN EXPORT-IMPORT BANK (CLOSED JOINT-STOCK COMPANY)), d.13 str. 1 per.3-I Neopalimovski, Moscow 119121, Russia; SWIFT/BIC EXIR RU MM; Web site eximbank.ru; Executive Order 13662 Directive Determination—Subject to Directive 1; Public Registration Number 1027739109133; All offices worldwide; for more information on directives, please visit the following link: http://www.treasury.gov/resource-center/sanctions/Programs/Pages/ukraine.aspx#directives. [UKRAINE-EO13662] (Linked To: VNESHECONOMBANK).

5. FAR EAST AND BAIKAL REGION DEVELOPMENT FUND OJSC (a.k.a. FOND RAZVITIYA DALNEGO VOSTOKA I BAIKALSKOGO REGIONA, OAO; a.k.a. OJSC THE FAR EAST AND BAIKAL REGION DEVELOPMENT FUND; a.k.a. OPEN JOINT-STOCK COMPANY THE FAR EAST AND BAIKAL REGION DEVELOPMENT FUND; a.k.a. OTKRYTOE AKTSIONERNOE OBSHCHESTVO FOND RAZVITIYA DALNEGO VOSTOKA I BAIKALSKOGO REGIONA), d. 82 str. 2 ul. Sadovnicheskaya, Moscow 115035, Russia; Web site fondvostok.ru; Executive Order 13662 Directive Determination—Subject to Directive 1; Public Registration Number 1112721010995; For more information on directives, please visit the following link: http://www.treasury.gov/resource-center/sanctions/Programs/Pages/ukraine.aspx#directives. [UKRAINE-EO13662] (Linked To: VNESHECONOMBANK).

6. FEDERAL CENTER FOR PROJECT FINANCE (a.k.a. FTSPF, OAO; a.k.a. OAO FEDERALNY TSENTR PROEKTNOGO FINANSIROVANIYA; f.k.a. ZAKRYTOE AKTSIONERNOE OBSHCHESTVO FEDERALNY CENTR PROEKTNOGO FINANSIROVANIYA; a.k.a. “FCPF”), d. 14 prospekt Olimpiski, Moscow 129090, Russia; Web site fcpf.ru; Executive Order 13662 Directive Determination—Subject to Directive 1; Public Registration Number 1027739088410; For more information on directives, please visit the following link: http://www.treasury.gov/resource-center/sanctions/Programs/Pages/ukraine.aspx#directives. [UKRAINE-EO13662] (Linked To: VNESHECONOMBANK).

7. GLOBEXBANK (a.k.a. AKTSIONERNOE OBSHCHESTVO KOMMERCHESKI BANK GLOBEKS; f.k.a. CJSC GLOBEXBANK; a.k.a. GLOBEKSBANK, AO; a.k.a. GLOBEX COMMERCIAL BANK, JOINT STOCK COMPANY; f.k.a. ZAKRYTOE AKTSIONERNOE OBSHCHESTVO KOMMERCHESKI BANK GLOBEKS), d. 59 str. 2 ul. Zemlyanoi Val, Moscow 109004, Russia; SWIFT/BIC GLOB RU MM; Web site globexbank.ru; Executive Order 13662 Directive Determination—Subject to Directive 1; Public Registration Number 1027739326010; All offices worldwide; for more information on directives, please visit the following link: http://www.treasury.gov/resource-center/sanctions/Programs/Pages/ukraine.aspx#directives. [UKRAINE-EO13662] (Linked To: VNESHECONOMBANK).

8. KRASLESINVEST CJSC (a.k.a. CJSC KRASLESINVEST; a.k.a. KRASLESINVEST, ZAO; a.k.a. THE CLOSED JOINT-STOCK COMPANY KRASLESINVEST; a.k.a. ZAKRYTOE AKTSIONERNOE OBSHCHESTVO KRASLESINVEST), d. 35 A ul. Partizana Zheleznyaka, Krasnoyarsk, Krasnoyarski krai 660022, Russia; Web site kraslesinvest.ru; Executive Order 13662 Directive Determination—Subject to Directive 1; Public Registration Number 1082468004574; For more information on directives, please visit the following link: http://www.treasury.gov/resource-center/sanctions/Programs/Pages/ukraine.aspx#directives. [UKRAINE-EO13662] (Linked To: VNESHECONOMBANK).

9. PROMINVESTBANK (a.k.a. COMMERCIAL INDUSTRIAL AND INVESTMENT BANK PUBLIC JOINT STOCK COMPANY; a.k.a. JOINT STOCK COMMERCIAL INDUSTRIAL AND INVESTMENT BANK PUBLIC JOINT STOCK COMPANY; a.k.a. PSC PROMINVESTBANK; a.k.a. PUBLIC STOCK COMPANY JOINT STOCK COMMERCIAL INDUSTRIAL & INVESTMENT BANK), 12, Shevchenko lane, Kyiv 01001, Ukraine; SWIFT/BIC UPIB UA UX; Web site pib.com.ua; Executive Order 13662 Directive Determination—Subject to Directive 1; All offices worldwide; for more information on directives, please visit the following link: http://www.treasury.gov/resource-center/sanctions/Programs/Pages/ukraine.aspx#directives. [UKRAINE-EO13662] (Linked To: VNESHECONOMBANK).

10. RESAD LLC (a.k.a. LLC RESAD; a.k.a. OBSHCHESTVO S OGRANICHENNOI OTVETSTVENNOSTYU RESAD; a.k.a. RESAD, OOO), d. 5 ul. Bryanskaya, Moscow 121059, Russia; Executive Order 13662 Directive Determination—Subject to Directive 1; Public Registration Number 1027739071337; For more information on directives, please visit the following link: http://www.treasury.gov/resource-center/sanctions/Programs/Pages/ukraine.aspx#directives. [UKRAINE-EO13662] (Linked To: VNESHECONOMBANK).

11. ROSE GROUP LIMITED (f.k.a. RGI INTERNATIONAL; f.k.a. RGI INTERNATIONAL LIMITED; a.k.a. “ROSE GROUP”), Frances House, Sir William Place, St. Peter Port GY1 4EU, Guernsey; Korobeinikov Lane, 1, Moscow 119034, Russia; Web site rosegroup.ru; Executive Order 13662 Directive Determination—Subject to Directive 1; For more information on directives, please visit the following link: http://www.treasury.gov/resource-center/sanctions/Programs/Pages/ukraine.aspx#directives. [UKRAINE-EO13662] (Linked To: VNESHECONOMBANK).

12. RUSSIAN DIRECT INVESTMENT FUND MANAGEMENT COMPANY (a.k.a. LIMITED LIABILITY COMPANY RDIF MANAGEMENT COMPANY; a.k.a. MANAGEMENT COMPANY RDIF LLC; a.k.a. OBSHCHESTVO S OGRANICHENNOI OTVETSTVENNOSTYU UPRAVLYAYUSHCHAYA KOMPANIYA RFPI; a.k.a. RDIF MANAGEMENT COMPANY; a.k.a. RDIF MANAGEMENT COMPANY LLC; a.k.a. UK RFPI, OOO), d. 9 prospekt Akademika Sakharova, Moscow 107996, Russia; Web site rdif.ru; Executive Order 13662 Directive Determination—Subject to Directive 1; Public Registration Number 1117746429371; For more information on directives, please visit the following link: http://www.treasury.gov/resource-center/sanctions/Programs/Pages/ukraine.aspx#directives. [UKRAINE-EO13662] (Linked To: VNESHECONOMBANK).

13. SME BANK (a.k.a. AKTSIONERNOE OBSHCHESTVO ROSSISKI BANK PODDERZHKI MALOGO I SREDNEGO PREDPRINIMATELSTVA; a.k.a. JSC RUSSIAN BANK FOR SMALL AND MEDIUM ENTERPRISES SUPPORT; a.k.a. JSC SME BANK; a.k.a. MSP BANK AO; f.k.a. OTKRYTOE AKTSIONERNOE OBSHCHESTVO ROSSISKI BANK RAZVITIYA), 79 ul. Sadovnicheskaya, Moscow 115035, Russia; SWIFT/BIC RUDV RU MM; Web site mspbank.ru; Executive Order 13662 Directive Determination—Subject to Directive 1; Public Registration Number 1027739108649; All offices worldwide; for more information on directives, please visit the following link: http://www.treasury.gov/resource-center/sanctions/Programs/Pages/ukraine.aspx#directives. [UKRAINE-EO13662] (Linked To: VNESHECONOMBANK).

14. SVIAZ-BANK (a.k.a. INTERREGIONAL BANK FOR SETTLEMENTS OF THE TELECOMMUNICATIONS AND POSTAL SERVICES; a.k.a. MEZHREGIONALNY KOMMERCHESKI BANK RAZVITIYA SVYAZI I INFORMATIKI (PUBLICHNOE AKTSIONERNOE OBSHCHESTVO); a.k.a. SVIAZ-BANK AKB PAO), 7 Tverskaya ul., Moscow 125375, Russia; SWIFT/BIC SVIZ RU MM; Web site sviaz-bank.ru; Executive Order 13662 Directive Determination—Subject to Directive 1; Public Registration Number 1027700159288; All offices worldwide; for more information on directives, please visit the following link: http://www.treasury.gov/resource-center/sanctions/Programs/Pages/ukraine.aspx#directives. [UKRAINE-EO13662] (Linked To: VNESHECONOMBANK).

15. VEB ASIA LIMITED, Suite 5808, 58/F, Two International Finance Center, 8 Finance Street Central, Hong Kong, China; Executive Order 13662 Directive Determination—Subject to Directive 1; For more information on directives, please visit the following link: http://www.treasury.gov/resource-center/sanctions/Programs/Pages/ukraine.aspx#directives. [UKRAINE-EO13662] (Linked To: VNESHECONOMBANK).

16. VEB CAPITAL (a.k.a. LIMITED LIABILITY COMPANY VEB CAPITAL; a.k.a. LLC VEB-CAPITAL; a.k.a. OBSHCHESTVO S OGRANICHENNOI OTVETSTVENNOSTYU INVESTITSIONNAYA KOMPANIYA VNESHEKONOMBANKA (VEB KAPITAL); a.k.a. VEB CAPITAL LLC; a.k.a. VEB KAPITAL, OOO), d. 7 str. A ul. Mashi Poryvaevoi, Moscow 107078, Russia; Web site vebcapital.ru; Executive Order 13662 Directive Determination—Subject to Directive 1; Public Registration Number 1097746831709; For more information on directives, please visit the following link: http://www.treasury.gov/resource-center/sanctions/Programs/Pages/ukraine.aspx#directives. [UKRAINE-EO13662] (Linked To: VNESHECONOMBANK).

17. VEB ENGINEERING LLC (a.k.a. OBSHCHESTVO S OGRANICHENNOI OTVETSTVENNOSTYU VEB INZHINIRING; a.k.a. VEB INZHINIRING, OOO), d. 9 prospekt Akademika Sakharova, Moscow 107996, Russia; Web site vebeng.ru; Executive Order 13662 Directive Determination—Subject to Directive 1; Public Registration Number 1107746181674; For more information on directives, please visit the following link: http://www.treasury.gov/resource-center/sanctions/Programs/Pages/ukraine.aspx#directives. [UKRAINE-EO13662] (Linked To: VNESHECONOMBANK).

18. VEB LEASING OJSC (a.k.a. OJSC VEB-LEASING; a.k.a. OPEN JOINT-STOCK COMPANY VEB-LEASING; a.k.a. OTKRYTOE AKTSIONERNOE OBSHCHESTVO VEB-LIZING; a.k.a. VEB-LIZING, OAO), d. 10 ul. Vozdvizhenka, Moscow 125009, Russia; Web site veb-leasing.ru; Executive Order 13662 Directive Determination—Subject to Directive 1; Public Registration Number 1037709024781; For more information on directives, please visit the following link: http://www.treasury.gov/resource-center/sanctions/Programs/Pages/ukraine.aspx#directives. [UKRAINE-EO13662] (Linked To: VNESHECONOMBANK).

As entities owned, directly or indirectly, 50 percent or more by VEB, these entities are subject to the same prohibitions as VEB.

On July 30, 2015, OFAC identified as subject to the prohibitions of Directive 2 (as amended) and Directive 4 of September 12, 2014 the following seventeen persons, pursuant to E.O. 13662, “Blocking Property of Additional Persons Contributing to the Situation in Ukraine” and 31 CFR 589.406, 589.802, and following the Secretary of the Treasury's determination pursuant to section l(a)(i) of E.O. 13662 with respect to the energy sector of the Russian Federation economy:

Entities

1. CJSC VANKORNEFT (a.k.a. VANKORNEFT; a.k.a. ZAO VANKORNEFT), Dobrovolcheskoy Brigady St., 15, Krasnoyarsk Territory 660077, Russia; Email Address info@vankoroil.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

2. NEFT-AKTIV LLC (a.k.a. OOO NEFT-AKTIV; a.k.a. RN-AKTIV OOO), Ulica Kaluzhskaya M., d., 15, str. 28, Moscow 119071, Russia; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

3. OJSC ACHINSK REFINERY (a.k.a. ACHINSK REFINERY; a.k.a. OAO ACHINSK OIL REFINERY VNK), Achinsk Refinery industrial area, Bolsheuluisky district, Krasnoyarsk territory 662110, Russia; Email Address sekr1@anpz.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

4. OJSC ANGARSK PETROCHEMICAL COMPANY (a.k.a. ANGARSK REFINERY), Angarsk, Irkutsk region 665830, Russia; 6 ul. K. Marksa, Angarsk 665830, Russia; Web site www.anhk.ru; Email Address delo@anhk.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

5. OJSC KUYBYSHEV REFINERY (a.k.a. KUIBYSHEV REFINERY; a.k.a. OJSC KUIBYSHEV REFINERY), 25 Groznenskaya st., Samara 443004, Russia; Email Address sekr@knpz.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

6. OJSC NOVOKUYBYSHEV REFINERY (a.k.a. NOVOKUIBYSHEVSK REFINERY; a.k.a. OJSC NOVOKUYBYSHEV REFINERY), Novokuibyshevsk, Samara region 446207, Russia; Email Address sekr@nknpz.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

7. OJSC ORENBURGNEFT (a.k.a. OAO JSC ORENBURGNEFT; a.k.a. ORENBURGNEFT), Magistralnaya St., 2, Buzuluk, the Orenburg Region 461040, Russia; st. Magistralynaya 2, Buzuluk 461040, Russia; Email Address orenburgneft@rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

8. OJSC RN HOLDING (a.k.a. RN HOLDING OAO), 60 Oktyabrskaya ul., Uvat 626170, Russia; Executive Order 13662 Directive Determination—Subject to Directive 2; alt. Executive Order 13662 Directive Determination—Subject to Directive 4; Registration ID 1047200153770 (Russia); Tax ID No. 7225004092 (Russia); Government Gazette Number 74743120 (Russia); For more information on directives, please visit the following link: http://www.treasury.gov/resource-center/sanctions/Programs/Pages/ukraine.aspx#directives. [UKRAINE-EO13662] (Linked To: OPEN JOINT-STOCK COMPANY ROSNEFT OIL COMPANY).

9. OJSC RUSSIAN REGIONAL DEVELOPMENT BANK (a.k.a. RUSSIAN REGIONAL DEVELOPMENT BANK; a.k.a. “VBRR”), 65/1 Suschevsky Val, Moscow 129594, Russia; 65 Sushchevskiy val, Moscow 129594, Russia; Web site www.vbrr.ru; Executive Order 13662 Directive Determination—Subject to Directive 2; alt. Executive Order 13662 Directive Determination—Subject to Directive 4; Registration ID 3287 (Russia); For more information on directives, please visit the following link: http://www.treasury.gov/resource-center/sanctions/Programs/Pages/ukraine.aspx#directives. [UKRAINE-EO13662] (Linked To: OPEN JOINT-STOCK COMPANY ROSNEFT OIL COMPANY).

10. OJSC SAMOTLORNEFTEGAZ (a.k.a. SAMOTLORNEFTEGAZ; a.k.a. SAMOTLORNEFTEGAZ JSC), Lenina St. 4, the Tyumen Region, Khanty-Mansiysk, Autonomous District, Nizhnevartovsk 628606, Russia; Email Address NVSNGinfo@rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

11. OJSC SYZRAN REFINERY (a.k.a. OPEN JOINT-STOCK OIL AND GAS COMPANY SYZRAN; a.k.a. SYZRAN REFINERY), 1 Astrakhanskaya st., Syzran, Samara region 446009, Russia; Moskvorechje street 105, Building 8, Moscow 115523, Russia; Email Address sekr@snpz.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

12. PJSC VERKHNECHONSKNEFTEGAZ (a.k.a. OJSC VERKHNECHONSKNEFTEGAZ; a.k.a. VERKHNECHONSKNEFTEGAZ), Baikalskaya St., 295 B, Irkutsk 664050, Russia; Email Address vcng@rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

13. RN-KOMSOMOLSKY REFINERY LLC (a.k.a. KOMSOMOLSK REFINERY; a.k.a. LLC RN-KOMSOMOLSK REFINERY; a.k.a. RN-KOMSOMOLSKI NPZ OOO), 115 Leningradskaya st., Komsomolsk-on-Amur, Khabarovsk region 681007, Russia; Email Address knpz@rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

14. RN-YUGANSKNEFTEGAZ LLC (a.k.a. RN-YUGANSKNEFTEGAZ OOO; a.k.a. YUGANSKNEFTEGAZ), Lenina St., 26, Nefteyugansk, Tyumen Region 628309, Russia; Email Address rn_yng@yungjsc.com; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

15. ROSNEFT FINANCE S.A., 46A Avenue John F Kennedy, 2nd Floor, Luxembourg 1855, Luxembourg; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

16. ROSNEFT TRADE LIMITED (f.k.a. TNK TRADE LIMITED), Elenion Building 5 Themistokli Dervi, 2nd floor, Lefkosia, Nicosia 1066, Cyprus; Email Address hrm@rosneft-sh.com.cy; Executive Order 13662 Directive Determination—Subject to Directive 2; alt. Executive Order 13662 Directive Determination—Subject to Directive 4; Registration ID C122790; For more information on directives, please visit the following link: http://www.treasury.gov/resource-center/sanctions/Programs/Pages/ukraine.aspx#directives. [UKRAINE-EO13662] (Linked To: OPEN JOINT-STOCK COMPANY ROSNEFT OIL COMPANY).

17. ROSNEFT TRADING S.A., 2, Rue Place du Lac, 1204, Geneva, Switzerland; Web site www.rosneft.com; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

As entities owned, directly or indirectly, 50 percent or more by Open Joint-Stock Company Rosneft Oil Company, these entities are subject to the same prohibitions as Open Joint-Stock Company Rosneft Oil Company.

Dated: July 30, 2015.
John E. Smith,
Acting Director, Office of Foreign Assets Control.

[FR Doc. 2015-19595 Filed 8-7-15; 8:45 am]

BILLING CODE 4810-AL-P